DEPARTMENT OF AGRICULTURE

National Agricultural Statistics Service

Notice of Intent To Seek Approval To Conduct an Information Collection

AGENCY: National Agricultural Statistics Service, USDA.

ACTION: Notice and request for comments.

SUMMARY: In accordance with the Paperwork Reduction Act of 1995 (Pub. L. No. 104-13) and Office of Management and Budget regulations at 5 CFR part 1320 (60 FR 44978, August 29, 1995), this notice announces the intent of the National Agricultural Statistics Service (NASS) to request approval for an information collection, the Census of Agriculture Content Test.

DATES: Comments on this notice must be received by July 27, 2000 to be assured of consideration.

ADDITIONAL INFORMATION OR COMMENTS: Contact Rich Allen, Associate Administrator, National Agricultural Statistics Service, U.S. Department of Agriculture, 1400 Independence Avenue SW, Room 4117 South Building, Washington, D.C. 20250-2000, (202) 720-4333.

SUPPLEMENTARY INFORMATION: Title: Census of Agriculture Content Test.

Type of Request: Intent to Seek Approval to Conduct an Information Collection.

Abstract: The Census of Agriculture is the leading source of statistics about the nation's agricultural production and the only source of consistent, comparable data at the county, state, and national levels. The Census of Agriculture is required by law under the “Census of Agriculture Act of 1997,” Pub. L. No. 105-113 (7 U.S.C. 2204(g)).

The purpose of this voluntary content test is to evaluate a number of factors affecting the census program: questionnaire format and design, new content items, changes to question location and wording, respondent burden, the ability of the respondent to provide the data, and selected processing methods. Results will be analyzed in preparation for the 2002 Census of Agriculture.

Minimizing response burden while recognizing the needs for agricultural sector data is a consideration when reviewing content expansion during 2002 Census questionnaire development. USDA/NASS conducted meetings with other USDA and Federal agencies and contacted State Departments of Agriculture to gather information about uses and justification for county-level data. Recommendations resulting from these evaluations are the basis for many of the changes incorporated into the content test questionnaires.

This Census of Agriculture Content Test will be conducted at the national level, excluding Hawaii and Alaska. The random sample will be mailed questionnaires with nonrespondents receiving a follow-up contact. NASS will summarize the data and present the findings to the Advisory Committee on Agriculture Statistics.

Estimate of Burden: Public reporting burden for this collection of information averages 2 minutes per refusal, 5 minutes per screen-out, and 90 minutes per positive response.

Respondents: Farm and ranch operators.

Estimated Number of Respondents: 15,000.

Estimated Total Annual Burden on Respondents: 17,000 hours.

Copies of this information collection and related instructions can be obtained without charge from Ginny McBride, the Agency OMB Clearance Officer, at (202) 720-5778.

Comments

Comments are invited on: (a) whether the proposed collection of information is necessary for the proper performance of the functions of the agency, including whether the information will have practical utility; (b) the accuracy of the agency's estimate of the burden of the proposed collection of information including the validity of the methodology and assumptions used; (c) ways to enhance the quality, utility, and clarity of the information to be collected; and (d) ways to minimize the burden of the collection of information on those who are to respond, including through the use of appropriate automated, electronic, mechanical, or other technological collection techniques or other forms of information technology. Comments may be sent to: Ginny McBride, Agency OMB Clearance Officer, U.S. Department of Agriculture, 1400 Independence Avenue SW, Room 4162 South Building, Washington, D.C. 20250-2000 or gmcbride@usda.gov/nass.

All responses to this notice will become a matter of public record and be summarized in the request for OMB approval.

Signed at Washington, DC, April 3, 2000.
Rich Allen,
Associate Administrator.

[FR Doc. 00-12943 Filed 5-22-00; 8:45 am]

BILLING CODE 3410-20-P